DEPARTMENT OF ENERGY

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Cooperation Between the Government of the United States of America and the Government of Japan Concerning Peaceful Uses of Nuclear Energy.

DATES: This subsequent arrangement will take effect no sooner than July 11, 2019.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns a revision in the decommissioning plan described in an earlier subsequent arrangement—published in the Federal Register May 25, 2011 (76 FR 30326)—for the alteration in form of 28.276 kg (24.541 ekg) of U.S.-origin high enriched uranium (HEU) (26.342 kg U-235) and 0.0048 g of plutonium contained in three irradiated HEU driver fuels. Under the 2011 subsequent arrangement, the United States approved the cutting and de-cladding of the HEU for conversion and downblending to approximately 18% at the Japan Atomic Energy Agency (JAEA) Plutonium Fuel Fabrication Facility, and the temporary storage of the downblended HEU at the JAEA Tokai Plutonium Fuel Production Facility. The downblended HEU was planned for use as fuel for the JAEA experimental fast reactor JOYO. Under the revised plan, the HEU will be cut into segments and de-cladded, then packaged for return to the United States.

Pursuant to the authority in section 131a. of the Atomic Energy Act of 1954, as delegated, I have determined that this proposed subsequent arrangement will not be inimical to the common defense and security of the United States of America.

Dated: June 17, 2019.
For the Department of Energy.
Brent K. Park,
Deputy Administrator, Defense Nuclear Nonproliferation.

[FR Doc. 2019-13592 Filed 6-25-19; 8:45 am]

BILLING CODE 6450-01-P